DEPARTMENT OF TRANSPORTATION

Federal Aviation Administration

[Summary Notice No. PE-2006-43]

Petitions for Exemption; Summary of Petitions Received

AGENCY: Federal Aviation Administration (FAA), DOT.

ACTION: Notice of petition for exemption received.

SUMMARY: Pursuant to FAA's rulemaking provisions governing the application, processing, and disposition of petitions for exemption, part 11 of Title 14, Code of Federal Regulations (14 CFR), this notice contains a summary of a certain petition seeking relief from specified requirements of 14 CFR. The purpose of this notice is to improve the public's awareness of, and participation in, this aspect of FAA's regulatory activities. Neither publication of this notice nor the inclusion or omission of information in the summary is intended to affect the legal status of any petition or its final disposition.

DATES: Comments on petitions received must identify the petition docket number involved and must be received on or before January 8, 2007.

ADDRESSES: You may submit comments identified by DOT DMS Docket Number FAA-2006-26279-1 by any of the following methods:

• Web Site: http://dms.dot.gov.

Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Mr. Robert Stegeman (816-329-4140), Small Airplane Directorate (ACE-111), Federal Aviation Administration, 901 Locust, Kansas City, MO 64106; or Frances Shaver (202-267-9681), Office of Rulemaking (ARM-1), Federal Aviation Administration, 800 Independence Avenue, SW., Washington, DC 20591.

This notice is published pursuant to 14 CFR 11.85 and 11.91.

Issued in Washington, DC, on December 11, 2006.
Pamela Hamilton-Powell,
Director, Office of Rulemaking.

Petitions for Exemption

Docket No.: FAA-2006-26279-1.

Petitioner: Cessna Aircraft Company.

Sections of 14 CFR Affected: 14 CFR part 23, §§ 23.25, 23.29, 23.235, 23.471, 23.473, 23.477, 23.479, 23.481, 23.483, 23.485, 23.493, 23.499, 23.723, 23.725, 23.726, 23.727, 23.959, 23.1583(c)(1) and (2), Appendix C23.1, Appendix D23.1 through Amendment 23-55.

Description of Relief Sought: To allow Cessna Aircraft Company to obtain a type certificate for the Cessna Model 525C with parallel rules of Title 14 CFR part 25.

[FR Doc. E6-21454 Filed 12-15-06; 8:45 am]

BILLING CODE 4910-13-P